DEPARTMENT OF TRANSPORTATION

Federal Aviation Administration

14 CFR Part 39

[Docket No. FAA-2007-28663; Directorate Identifier 2006-NM-223-AD]

RIN 2120-AA64

Airworthiness Directives; Airbus Model A300-600 Series Airplanes; and Model A310 Series Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

* * * * *

* * * the FAA set-up in January 1999 an Ageing Transport Systems Rulemaking Advisory Committee (ATSRAC) to investigate the potential safety issues in aging aircraft as a result of wear and degradation in their operating systems.

Under this plan, all Holders of type Certificates aircraft are required to conduct a design review, to preclude the occurrence of potential unsafe conditions as the aircraft aged.

* * * * *

The unsafe condition is degradation of the fuel system, which could result in loss of the airplane. The proposed AD would require actions that are intended to address the unsafe condition described in the MCAI.

DATES: We must receive comments on this proposed AD by August 9, 2007.

ADDRESSES: You may send comments by any of the following methods:

• DOT Docket Web Site: Go to http://dms.dot.gov and follow the instructions for sending your comments electronically.

• Fax: (202) 493-2251.

• Mail: Docket Management Facility, U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• eFederal Rulemaking Portal: http://www.regulations.gov. Follow the instructions for submitting comments.

Examining the AD Docket

You may examine the AD docket on the Internet at http://dms.dot.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. 2007-28663; Directorate Identifier 2006-NM-223-AD” at the beginning of your comments. We specifically invite comments on the overall regulatory, economic, environmental, and energy aspects of this proposed AD. We will consider all comments received by the closing date and may amend this proposed AD because of those comments.

We will post all comments we receive, without change, to http://dms.dot.gov, including any personal information you provide. We will also post a report summarizing each substantive verbal contact we receive about this proposed AD.

Discussion

The European Aviation Safety Agency (EASA), which is the Technical Agent for the Member States of the European Community, has issued EASA Airworthiness Directive 2006-0285R1, dated November 13, 2006 (referred to after this as “the MCAI”), to correct an unsafe condition for the specified products. The MCAI states:

* * * the FAA issued in July 1996 an Aging Non-structural Systems plan to address the White House Commission on Aviation Safety and Security (WHCSS) report.

To help fulfill the actions specified in this Aging Systems plan, the FAA set-up in January 1999 an Ageing Transport Systems Rulemaking Advisory Committee (ATSRAC) to investigate the potential safety issues in aging aircraft as a result of wear and degradation in their operating systems.

Under this plan, all Holders of type Certificates aircraft are required to conduct a design review, to preclude the occurrence of potential unsafe conditions as the aircraft aged.

Further to AIRBUS investigations on this subject, corrected measures intended to improve the design of A310 and A300-600 fleet against potential unsafe conditions as the aircraft aged, are rendered mandatory by this AD.

The unsafe condition is degradation of the fuel system, which could result in loss of the airplane. The corrective actions include:

• Modify emergency power electrical routing.

• Inspect certain wire routes and do necessary corrective action (repair chafed or burned wiring, damaged clamps, and introduce self-vulcanising silicone tape for wrapping the cable bundle at each clamping position).

• Secure electrical routing.

• Relocate temperature sensors and modify wires.

You may obtain further information by examining the MCAI in the AD docket.

Relevant Service Information

Airbus has issued the following Service Bulletins:

• A300-24-6045, Revision 05, dated June 9, 2006.

• A300-24-6069, Revision 01, dated April 27, 2006.

• A310-24-2056, Revision 02, dated June 9, 2006.

• A310-24-2079, Revision 01, dated April 27, 2006.

• A310-29-2036, Revision 03, dated June 9, 2006.

• A310-36-2010, Revision 03, dated May 24, 2006.

The actions described in this service information are intended to correct the unsafe condition identified in the MCAI.

FAA's Determination and Requirements of This Proposed AD

This product has been approved by the aviation authority of another country, and is approved for operation in the United States. Pursuant to our bilateral agreement with the State of Design Authority, they have notified us of the unsafe condition described in the MCAI and service information referenced above. We are proposing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are described in a separate paragraph of the proposed AD. These requirements, if ultimately adopted, will take precedence over the actions copied from the MCAI.

Costs of Compliance

Based on the service information, we estimate that this proposed AD would affect about 193 products of U.S. registry. We estimate that it would take about 267 work hours per product to comply with this proposed AD. The average labor rate is $80 per work-hour. Required parts would cost about $17,637 per product. Where the service information lists required parts costs that are covered under warranty, we have assumed that there will be no charge for these costs. As we do not control warranty coverage for affected parties, some parties may incur costs higher than estimated here. Based on these figures, we estimate the cost of the proposed AD to be $7,526,421, or $38,997 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2007-28663; Directorate Identifier 2006-NM-223-AD.

Comments Due Date

(a) We must receive comments by August 9, 2007.

Affected ADs

(b) None.

Applicability

(c) This AD applies to Airbus Model A300-600 series airplanes; and Model A310 series airplanes; certificated in any category; all certified models, all serial numbers.

Subjects

(d) Electrical Power, Hydraulic Power, and Pneumatic.

Reason

(e) The mandatory continuing airworthiness information (MCAI) states:

* * * the FAA issued in July 1996 an Aging Non-structural Systems plan to address the White House Commission an Aviation Safety and Security (WHCSS) report.

To help fulfill the actions specified in this Aging Systems plan, the FAA set-up in January 1999 an Ageing Transport Systems Rulemaking Advisory Committee (ATSRAC) to investigate the potential safety issues in aging aircraft as a result of wear and degradation in their operating systems.

Under this plan, all Holders of type Certificates aircraft are required to conduct a design review, to preclude the occurrence of potential unsafe conditions as the aircraft aged.

Further to AIRBUS investigations on this subject, corrected measures intended to improve the design of A310 and A300-600 fleet against potential unsafe conditions as the aircraft aged, are rendered mandatory by this AD.

The unsafe condition is degradation of the fuel system, which could result in loss of the airplane. The corrective actions include: Modify emergency power electrical routing; inspect certain wire routes and do necessary corrective action (repair chafed or burned wiring, damaged clamps, and introduce self-vulcanising silicone tape for wrapping the cable bundle at each clamping position); secure electrical routing; and relocate temperature sensors and modify wires.

Actions and Compliance

(f) Unless already done, do the following actions.

(1) For Model A310 series airplanes, having received Airbus Modification 05911 and/or Airbus Modification 05910, or having received application of Airbus Service Bulletin A310-24-2014 or A310-24-2099 in service; and Model A300-600 series airplanes having received in production Airbus Modification 06213, or having received application of Airbus Service Bulletin A300-24-6008 (Airbus Modification 06214) in service; except airplanes on which Airbus Modification 10510 has been embodied in production or airplanes on which Airbus Service Bulletin A310-24-2056, dated June 8, 1993; Revision 1, dated November 28, 1994; or Revision 02, dated June 9, 2006; or Airbus Service Bulletin A300-24-6045, dated June 8, 1993; Revision 1, dated June 2, 1994; Revision 2, dated August 11, 1994; Revision 3, dated November 28, 1994; Revision 4, dated May 5, 1995; or Revision 05, dated June 9, 2006; has been embodied in service: Within 36 months after the effective date of this AD, modify the emergency power electrical routing under floor at pressure seal interface plates between FR (frame) 52 and FR53, in accordance with the instructions given in Airbus Service Bulletin A310-24-2056, Revision 02, dated June 9, 2006; or A300-24-6045, Revision 05, dated June 9, 2006; as applicable.

(2) For Model A310 series airplanes, manufacturing serial number (MSN) 0162 up to 0706 included, and Model A300-600 series airplanes, MSN 0252 up to 0794 included; except airplanes on which the one-time detailed visual inspection in accordance with Airbus Service Bulletin A310-24-2079, dated March 28, 2000; or Revision 01, dated April 27, 2006; or Airbus Service Bulletin A300-24-6069, dated March 28, 2000; or Revision 01, dated April 27, 2006; has been performed in service: Within 36 months after the effective date of this AD, perform a one-time detailed visual inspection of the electrical routes 1P and 2P between the rear panel 120VU (volt unit) and the circuit breaker panel 800VU located in the forward compartment and in case of finding, before further flight, repair chafed or burned wiring, damaged clamps and introduce self-vulcanising silicone tape for wrapping the cable bundle of each clamping position, in accordance with the instructions given in Airbus Service Bulletin A310-24-2079, Revision 01, dated April 27, 2006, or Airbus Service Bulletin A300-24-6069, Revision 01, dated April 27, 2006; as applicable.

(3) For Model A310 series airplanes, equipped with Eaton (formerly Vickers) electrical pumps, except airplanes on which Airbus Modification 10017 has been embodied in production or airplanes on which Airbus Service Bulletin A310-29-2036, dated August 10, 1992; Revision 1, dated December 16, 1992; Revision 2, dated September 20, 1993; or Revision 03, dated June 9, 2006; have been embodied in service: Within 36 months after the effective date of this AD, secure the electrical routing 1P, 2P, and the hydraulic line running to pump 11GE, in the hydraulic bay at FR54 by changing the routes and by adding a spacer and a clamp to prevent any chafing between them, in accordance with the instructions given in Airbus Service Bulletin A310-29-2036, Revision 03, dated June 9, 2006.

(4) For Model A310 series airplanes, except airplanes on which Airbus Modification 06447 has been embodied in production or airplanes on which Airbus Service Bulletin A310-36-2010, Revision 2, dated September 26, 1989; or Revision 03, dated May 24, 2006; have been embodied in service: Within 36 months after the effective date of this AD, relocate the temperature sensors and modify the associated wires in accordance with the instructions of Airbus Service Bulletin A310-36-2010, Revision 03, dated May 24, 2006.

(5) Actions done before the effective date of this AD in accordance with any applicable service bulletin in Table 1 of this AD are acceptable for compliance with the corresponding provisions of paragraph (f) of this AD.

Table 1.—Acceptable Earlier Revisions of Service Bulletins
Airbus Service Bulletin | Revision level | Date
A300-24-6045 | Original | June 8, 1993.
| 1 | June 2, 1994.
| 2 | August 11, 1994.
| 3 | November 28, 1994.
| 4 | May 5, 1995.
A300-24-6069 | Original | March 28, 2000.
A310-24-2056 | Original | June 8, 1993.
| 1 | November 28, 1994.
A310-24-2079 | Original | March 28, 2000.
A310-29-2036 | 1 | December 16, 1992.
| 2 | September 20, 1993.
A310-36-2010 | 2 | September 26, 1989.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, ATTN: Tom Stafford, Aerospace Engineer, 1601 Lind Avenue, SW., Renton, Washington; telephone (425) 227-1622; fax (425) 227-1149; has the authority to approve AMOCs for this AD, if requested using the procedures found in 14 CFR 39.19. Before using any AMOC approved in accordance with § 39.19 on any airplane to which the AMOC applies, notify the appropriate principal inspector in the FAA Flight Standards Certificate Holding District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2006-0285R1, dated November 13, 2006, and the Airbus Service Bulletins in Table 2 of this AD for related information:

Table 2.—Airbus Service Bulletins
Service Bulletin | Revision level | Date
A300-24-6045 | Revision 05 | June 9, 2006.
A300-24-6069 | Revision 01 | April 27, 2006.
A310-24-2056 | Revision 02 | June 9, 2006.
A310-24-2079 | Revision 01 | April 27, 2006.
A310-29-2036 | Revision 03 | June 9, 2006.
A310-36-2010 | Revision 03 | May 24, 2006.

Issued in Renton, Washington, on June 26, 2007.
Ali Bahrami,
Manager, Transport Airplane Directorate, Aircraft Certification Service.

[FR Doc. E7-13352 Filed 7-9-07; 8:45 am]

BILLING CODE 4910-13-P